DEPARTMENT OF COMMERCE

International Trade Administration

Agency Information Collection Activities; Submission to the Office of Management and Budget (OMB) for Review and Approval; Comment Request; Steel Import License

AGENCY: International Trade Administration, Enforcement & Compliance, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 27, 2023.

ADDRESSES: Interested persons are invited to submit written comments by mail to Julie Al-Saadawi, Director, Industrial Monitoring and Analysis Unit, International Trade Administration or by email to julie.al-saadawi@trade.gov. Please reference OMB Control Number 0625-0245 in the subject line of your comments. Do not submit Confidential Business Information or otherwise sensitive or protected information.

FOR FURTHER INFORMATION CONTACT: Requests for additional information or specific questions related to collection activities should be directed to Leo Kim, ITA Paperwork Reduction Act Officer, International Trade Administration; by telephone at (202) 989-5979, or by email to (pra@trade.gov).

SUPPLEMENTARY INFORMATION:

I. Abstract

The President's Proclamation on Steel Safeguards mandated that the Departments of Commerce and Treasury institute an import licensing system to facilitate the monitoring of certain steel imports in 2002. In 2005, Commerce enacted regulations that implemented the Steel Import Monitoring and Analysis (SIMA) System and expanded on the licensing system for steel that was part of those safeguards. Most recently, in October 2020, Commerce modified its SIMA regulations to require that steel import license applicants identify the country of melt and pour as an additional field on the steel import license application and expanded the licensing requirement to apply to all steel products.

The import license information is necessary to assess import trends of steel products. In order to effectively monitor steel imports, Commerce must collect and provide timely aggregated summaries about the imports. The Steel Import License is the tool used to collect the necessary information. The Census Bureau currently collects import data and disseminates aggregate information about steel imports. However, the time required to collect, process, and disseminate this information through Census can take up to 90 days after importation of the product, giving interested parties and the public far less time to respond to injurious sales.

II. Method of Collection

The license application can be submitted electronically via the Commerce website (https://trade.gov/steel) or completed electronically and emailed to the Department.

III. Data

OMB Control Number: 0625-0245.

Form Number(s): ITA-4141P.

Type of Review: Regular submission.

Affected Public: Business or other for-profit organizations.

Estimated Number of Respondents: 4,250.

Estimated Time per Response: Less than 10 minutes.

Estimated Total Annual Burden Hours: 78,820 minutes, including 416 burden hours for low-value licenses.

Estimated Total Annual Cost to Public: $0.

Respondent's Obligation: Voluntary.

Legal Authority: 13 U.S.C. 301(a) and 302.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-20231 Filed 9-25-23; 8:45 am]

BILLING CODE 3510-DS-P